NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: Billing Instructions for NRC Cost Type Contracts.

2. Current OMB approval number: 3150-0109.

3. How often the collection is required: Monthly and on occasion.

4. Who is required or asked to report: NRC Contractors.

5. The number of annual respondents: 55.

6. The number of hours needed annually to complete the requirement or request: The total annual contractor burden for the Billing Instructions and License Fee Recovery Cost Summary for NRC cost type contracts is estimated to be 1,070 hours. Billing burden is 754 hours plus 316 hours for License Fee Recovery Cost burden.

7. Abstract: In administering its contracts, the NRC Division of Contracts provides Billing Instructions for its contractors to follow in preparing invoices. These instructions stipulate the level of detail for supporting data that must be submitted for NRC review. The review of this information ensures that all payments made by the NRC are for valid and reasonable costs in accordance with the contract terms and conditions.

Submit, by February 14, 2006, comments that address the following questions:

1. Is the proposed collection of information necessary for the NRC to properly perform its functions? Does the information have practical utility?

2. Is the burden estimate accurate?

1. Is there a way to enhance the quality, utility, and clarity of the information to be collected?

2. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site (http://www.nrc.gov/public-involve/doc-comment/omb/index.html. The document will be available on the NRC homepage site for 60 days after the signature date of this notice.

Comments and questions about the information collection requirements may be directed to the NRC Clearance Officer, Brenda Jo. Shelton (T-5 F53), U.S. Nuclear Regulatory Commission, Washington, DC 20555-0001, by telephone at 301-415-7233, or by Internet electronic mail to INFOCOLLECTS@NRC.GOV.

Dated at Rockville, Maryland, this 12th day of December 2005.
For the Nuclear Regulatory Commission.
Brenda Jo. Shelton,
NRC Clearance Officer,Office of Information Services.

[FR Doc. E5-7451 Filed 12-15-05; 8:45 am]

BILLING CODE 7590-01-P